DEPARTMENT OF ENERGY

Federal Energy Regulatory Commission

[Docket No. EF06-2011-000]

U.S. Department of Energy, Bonneville Power Administration; Notice of Filing

August 3, 2006.

Take notice on July 28, 2006, Bonneville Power Administration (BPA) tendered for filing proposed rate adjustments for its wholesale power rates pursuant to section 7(a)(2) of the Pacific Northwest Electric Power Planning and Conservation Act, 16 U.S.C. 839e(a)(2). BPA seeks interim approval of its proposed rates effective September 29, 2006, pursuant to Commission regulation 300.20, 18 CFR 300.20. Pursuant to Commission regulation 300.21, 18 CFR 300.21, BPA seeks interim approval and final confirmation of the proposed rates for the periods October 1, 2006, through September 30, 2009, for the following proposed wholesale power rates:

PF-07 Priority Firm Power Rate.

NR-07 New Resource Firm Power Rate.

IP-07 Industrial Firm Power Rate.

FPS-07 Firm Power Products and Services Rate.

GTA General Transfer Agreement Delivery Charge.

BPA also requests approval of the General Rate Schedule Provisions (GRSPs) for the period of October 1, 2006, through September 30, 2009. The GRSPs will apply to the 2006 wholesale power rates which include the General Transfer Agreement Delivery Charge (GTA) which was approved on a final basis, effective October 1, 2005, through September 30, 2007, by the Commission on September 29, 2005.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive E-mail notification when a document is added to a subscribed docket(s). For assistance with any FERC Online service, please E-mail FERCOnlineSupport@ferc.gov, or call (866) 208-3676 (toll free). For TTY, call (202) 502-8659.

Comment Date: 5 p.m. Eastern Time on August 28, 2006.

Magalie R. Salas,
Secretary.

[FR Doc. E6-13063 Filed 8-9-06; 8:45 am]

BILLING CODE 6717-01-P